DEPARTMENT OF HOMELAND SECURITY

Federal Emergency Management Agency

Agency Information Collection Activities: Proposed Collection; Comment Request

AGENCY: Federal Emergency Management Agency, Emergency Preparedness and Response Directorate, U.S. Department of Homeland Security

ACTION: Notice and request for comments.

SUMMARY: The Federal Emergency Management Agency, as part of its continuing effort to reduce paperwork and respondent burden, invites the general public and other Federal agencies to take this opportunity to comment on a proposed revised information collection. In accordance with the Paperwork Reduction Act of 1995 (44 U.S.C. 3506(c)(2)(A)), this notice seeks comments concerning the standardization and consistent use of FEMA grant administrative forms for disaster and non-disaster federal assistance.

SUPPLEMENTARY INFORMATION: This information collection is in accordance with the requirements in 44 CFR, part 13, Uniform Administrative Requirements for Grants and Cooperative Agreements to State and Local Government (subpart B, 13.10, and subpart C, 13.32, 13.33, 13.40, 13.41, and subpart D, 13.50). This is FEMA's implementation of the Common Rule for grant programs.

The Senior Procurement Executive (SPE) has determined that in order to have consistent implementation of FEMA grant administrative policies, it is necessary to standardize the particular forms that FEMA uses in the various grant programs throughout the agency.

Collection of Information

Title: FEMA Grant Administrative Forms.

Type of Information Collection: Revision of a currently approved collection.

OMB Number: 1660-0025.

Form Numbers: SF 424, Application for Federal Assistance; FF 20-10, Financial Status Report; FF 20-15, Budget Information-Construction Programs; FF 20-16, A,B,C Summary Sheet for Assurances and Certifications, FF 20-17, Outlay Report and Request for Reimbursement for Construction Programs; FF 20-18, Report of Government Property; FF 20-19, Reconciliation of Grants and Cooperative Agreements; FF 20-20, Budget Information-Non-construction Programs; and FF 76-10A, Obligating Document for Award/Amendment.

Abstract: The collection of information focuses on the standardization and consistent use of standard and FEMA forms associated with grantees requests for disaster and non-disaster Federal assistance submission of financial and administrative reporting, and record keeping. The use of the forms will minimize burden on the respondents and enable FEMA to continue to improve in its grants administration practices. The following FEMA grants are included in this collection:

• Individual and Family Grants (IFG)—To provide funds for the necessary expenses and serious needs of disaster victims which cannot be met through other forms of disaster assistance or through other means such as insurance.

• Public Assistance Grants (PA)—To provide supplemental assistance to States, local governments, and political subdivisions to the State, Indian Tribes, Alaskan Native Villages, and certain nonprofit organizations in alleviating suffering and hardship resulting from major disasters or emergencies declared by the President.

• Crisis Counseling (SCC)—To provide immediate crisis counseling services, when required, to victims of a major Federally-declared disaster for the purpose of relieving mental health problems caused or aggravated by a major disaster or its aftermath.

• Hazard Mitigation Grant (HMGP)—To provide States and local governments financial assistance to implement measures that will permanently reduce or eliminate future damages and losses from natural hazards through safer building practices and improving existing structures and supporting infrastructure.

• Flood Mitigation Assistance (FMA)—To assist States and communities in implement measures to reduce or eliminate the long-term risk of flood damage to buildings, manufactured homes, and other structures insurable under the National Flood Insurance Program (NFIP).

• Pre-Disaster Mitigation (PDM)—To provide States and communities with a much needed source of pre-disaster mitigation funding for cost-effective hazard mitigation activities that are part of a comprehensive mitigation program, and that reduce injuries, loss of life, and damage and destruction of property.

• National Urban Search and Rescue (US&R) Response System—To develop an immediately deployable, national response capability to locate and extricate, and medically stabilize victims of structural collapse during a disaster, while simultaneously enhancing the US&R response capabilities of State and local governments.

• Community Assistance Program-State Support Services Element (CAP-SSSE)—To ensure that communities participating in the National Flood Insurance Program (NFIP) are achieving flood loss reduction measures consistent with program direction. The CAP-SSSE is intended to identify, prevent and resolve floodplain management issues in participating communities before they develop into problems requiring enforcement action.

• Chemical Stockpile Emergency Preparedness Program (CSEPP)—To enhance emergency preparedness capabilities of the States and local communities at each of the eight chemical agent stockpile storage facilities. The purpose of the program is to assist States and local communities in efforts to improve their capacity to plan for and respond to accidents associated with the storage and ultimate disposal of chemical warfare materials.

• National Dam Safety Program (NDSP)—To encourage the establishment and maintenance of effective State programs intended to ensure dam safety, to protect human life and property, and to improve State dam safety programs.

• Emergency Management Performance Grants (EMPG)—To encourage the development of comprehensive emergency management, including for terrorism consequence management, at the State and local level and to improve emergency planning, preparedness, mitigation, response, and recovery capabilities.

• Community Emergency Response Teams (CERT)—The purpose of the CERT program is to assist State and local efforts to start or expand CERT training and activities that contribute to the strengthening of homeland security by enhancing individual, community, family, and workplace preparedness.

• Interoperable Communications Equipment (ICE)—To provide funding to jurisdictions across the nation for demonstration projects on uses of equipment and technologies to increase communications interoperability among the fire service, law enforcement, and emergency medical service communities. These projects will illustrate and encourage the acceptance of new technologies and operating methods to assist communities in achieving interoperability.

• Cooperating Technical Partners (CTP)—To increase local involvement in, and ownership of, the development and maintenance of flood hazard maps produced for the National Flood Insurance Program (NFIP).

Affected Public: State, Local or Tribal Government.

Estimated Total Annual Burden Hours: 2,480,148.5 for disaster grants and 15,426.7 for non-disaster grants for a total of 2,495,575.2 burden hours. A breakdown of the burden is as charted below:

Disaster Programs
Disaster program data collections | Number of respondents | Number of responses | Hour burden per response | Total burden hours × 50 disasters annually
IFG:
SF 424 | 56 | 1 | 45 minutes | 2,100
FF 20-20 | 56 | 1 | 9.7 hours | 27,300
FF 20-16,A,B,C | 56 | 1 | 1.7 hours | 4,900
FF 20-10 | 56 | 1 | 1 hour | 2,800
Total | 56 | 4 |  | 37,100
PA:
SF 424 | 56 | 1 | 45 minutes | 2,100
FF 20-20 | 56 | 1 | 9.7 hours | 27,300
FF 20-16,A,B,C, | 56 | 1 | 1.7 hours | 4,900
FF 20-10 | 56 | 1 | 1 hour | 2,800
Total | 56 | 4 |  | 37,100
SCC:
SF 424 | 17 | 1 | 45 minutes | 637.5
FF 20-16,A,B,C | 17 | 1 | 1.7 hours | 1,487.5
FF 20-10 (SF 269) | 17 | 1 | 1 hour | 850
SF LLL | 17 | 1 | 10 minutes | 141.5
Total | 17 | 4 |  | 3,116.5
HMGP:
SF 424 | 52 | 1 | 45 minutes | 1,950
FF 20-20 | 52 | 15 | 9.7 hours | 380,250
FF 20-16,A,B,C | 52 | 1 | 1.7 hours | 4,550
FF 20-10 | 52 | 4 | 1 hour | 10,400
FF 20-17 | 52 | 15 | 17.2 hours | 672,750
FF 20-18 | 52 | 6 | 4.2 hours | 66,300
FF 20-19 | 52 | 6 | 5 minutes | 1,300
SF LLL | 52 | 1 | 10 minutes | 433
Total | 52 | 49 |  | 1,137,933
FMA:
SF 424 | 56 | 3 | 45 minutes | 6,300
FF 20-20 | 56 | 3 | 9.7 hours | 81,900
FF 20-16,A,B,C | 56 | 1 | 1.7 hours | 4,900
FF 76-10A | 56 | 3 | 1.2 hours | 10,500
FF 20-10 | 56 | 4 | 1 hour | 11,200
FF 20-18 | 56 | 1 | 4.2 hours | 11,900
FF 20-19 | 56 | 1 | 5 minutes | 233
SF LLL | 56 | 1 | 10 minutes | 466.5
Total | 56 | 17 |  | 127,399.5
PDM:
SF 424 | 56 | 2 | 45 minutes | 4,200
FF 20-15 | 56 | 1 | 17.2 hours | 48,300
FF 20-20 | 56 | 2 | 9.7 hours | 54,600
FF 76-10A | 56 | 2 | 1.2 hours | 7,000
FF 20-16,A,B,C | 56 | 2 | 1.7 hours | 9,800
FF 20-10 | 56 | 8 | 1 hour | 22,400
FF 20-17 | 56 | 20 | 17.2 hours | 966,000
FF 20-18 | 56 | 2 | 4.2 hours | 23,800
FF 20-19 | 56 | 2 | 5 minutes | 466.5
SF LLL | 56 | 2 | 10 minutes | 933
Total | 56 | 43 |  | 1,137,499.5

Non-Disaster Programs
Non-disaster program data collection | Number of respondents | Number of responses | Hour burden per response | Total burden hours
US&R:
SF 424 | 28 | 1 | 45 minutes | 21
FF 20-20 | 28 | 1 | 9.7 hours | 7,644
FF 20-16,A,B,C | 28 | 1 | 1.7 hours | 49
FF 76-10A | 28 | 1 | 1.2 hours | 35
FF 20-10 (SF 270) | 28 | 1 | 1 hour | 28
SF LLL | 28 | 1 | 10 minutes | 4.7
Total | 28 | 6 |  | 7,781.7
CAP-SSSE:
SF 424 | 56 | 1 | 45 minutes | 42
FF 20-20 | 56 | 1 | 9.7 hours | 546
FF 20-15 | 56 | 1 | 17.2 hours | 966
FF 20-16,A,B,C | 56 | 1 | 1.7 hours | 98
FF 76-10A | 56 | 1 | 1.2 hours | 70
FF 20-10 | 56 | 1 | 1 hour | 56
FF 20-18 | 56 | 1 | 4.2 hours | 238
FF 20-19 | 56 | 1 | 5 minutes | 4.7
SF LLL | 56 | 1 | 10 minutes | 9.5
Total | 56 | 9 |  | 2,030.2
CSEPP:
SF 424 | 10 | 1 | 45 minutes | 7.5
FF 20-20 | 10 | 1 | 9.7 hours | 97.5
FF 20-10 | 10 | 1 | 1 hour | 10
FF 20-16,A,B,C | 10 | 1 | 1.7 hour | 17.5
FF 76-10A | 10 | 1 | 1.2 hour | 12.5
FF 20-10 | 10 | 1 | 1 hour | 10
FF 20-18 | 10 | 1 | 4.2 hours | 42.5
FF 20-19 | 10 | 1 | 5 minutes | *50
SF LLL | 10 | 1 | 10 minutes | 1.7
Total | 10 | 9 |  | 200
NDSP:
SF 424 | 51 | 1 | 45 minutes | 38.2
FF 20-20 | 51 | 1 | 9.7 hours | 497.2
FF 20-16,A,B,C | 51 | 1 | 1.7 hours | 89.2
FF 76-10A | 51 | 1 | 1.2 hours | 63.7
FF 20-10 (SF 270) | 51 | 1 | 1 hour | 51
SF LLL | 51 | 1 | 10 minutes | 8.5
Total | 51 | 6 |  | 748
EMPG:
SF 424 | 56 | 1 | 45 minutes | 42
FF 20-20 | 56 | 1 | 9.7 hours | 546
FF 20-15 | 56 | 1 | 17.2 hours | 966
FF 20-16,A,B,C | 56 | 1 | 1.7 hours | 98
FF 76-10A | 56 | 1 | 1.2 hours | 70
FF 20-10 | 56 | 2 | 1 hour | 112
FF 20-17 | 56 | 1 | 17.2 hours | 966
FF 20-18 | 56 | 1 | 4.2 hours | 238
FF 20-19 | 56 | 1 | 5 minutes | 4.7
SF LLL | 56 | 1 | 10 minutes | 9.5
Total | 56 | 11 |  | 3,052.2
CERT:
SF 424 | 56 | 1 | 45 minutes | 42
FF 20-20 | 56 | 1 | 9.7 hours | 546
FF 20-16,A,B,C | 56 | 1 | 1.7 hours | 98
FF 20-10 | 56 | 1 | 1 hour | 56
SF LLL | 56 | 1 | 10 minutes | 9.5
Total | 56 | 5 |  | 751.5
ICE:
SF 424 | 17 | 1 | 45 minutes | 12.7
FF 20-20 | 17 | 1 | 9.7 hours | 165.7
FF 20-16,A,B,C | 17 | 1 | 1.7 hours | 29.7
FF 76-10A | 17 | 1 | 1.2 hours | 21.2
FF 20-10 | 17 | 1 | 1 hour | 17
SF LLL | 17 | 1 | 10 minutes | 3
Total | 17 | 6 |  | 249.5
CTP:
SF 424 | 20 | 1 | 45 minutes | 15
FF 20-20 | 20 | 1 | 9.7 hours | 195
FF 20-15 | 20 | 1 | 17.2 hours | 345
FF 20-16,A,B,C | 20 | 1 | 1.7 hours | 35
FF 20-10 | 20 | 1 | 1 hour | 20
SF LLL | 20 | 1 | 10 minutes | 3.5
Total | 20 | 6 |  | 613.5
* Minutes.

Estimated Cost: See Table below.

Disaster Programs
FEMA forms | Number of respondents | Hours per response | Average hourly wage rate | Estimated annual cost
SF 424 | 56 | 2,100 | 21.62 | $45,402.00
FF 20-20 | 56 | 27,300 | 21.62 | 590,226.00
FF 20-15 | 56 | 48,300 | 21.62 | 1,044,246.00
FF 20-16,A,B,C | 56 | 4,900 | 21.62 | 105,938.00
FF 76-10A | 56 | 70 | 21.62 | 1,513.40
FF 20-10 | 56 | 2,800 | 21.62 | 60,536.00
FF 20-17 | 56 | 48,300 | 21.62 | 1,044,246.00
FF 20-18 | 56 | 11,900 | 21.62 | 257,278.00
FF 20-19 | 56 | 233.2 | 21.62 | 5,042.86
SF LLL | 56 | 466.5 | 21.62 | 10,085.73
Total | 56 | 146,369.7 |  | 3,164,513.99

Non-Disaster Programs
FEMA forms | Number of respondents | Hours per response | Average hourly wage rate | Estimated annual cost
SF 424 | 56 | 42 | 21.62 | $908.04
FF 20-20 | 56 | 546 | 21.62 | 11,804.52
FF 20-15 | 56 | 966 | 21.62 | 20,884.92
FF 20-16,A,B,C | 56 | 98 | 21.62 | 2,118.76
FF 76-10A | 56 | 70 | 21.62 | 1,513.40
FF 20-10 | 56 | 56 | 21.62 | 1,210.72
FF 20-17 | 56 | 966 | 21.62 | 20,884.92
FF 20-18 | 56 | 238 | 21.62 | 5,145.56
FF 20-19 | 56 | 4.7 | 21.62 | 102.69
SF LLL | 56 | 9.5 | 21.62 | 205.39
Total | 56 | 2,996.2 |  | 64,778.92
Approximate annual salary of State and local person completing form is $40,000. Approximate hourly rate of pay ($40,000 divided by 1850 hours) is $21.62. The total cost to respondents is estimated to be $3,229,292.91 (149,366 hours x $21.62).

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be received on or before April 23, 2004.

ADDRESSES: Interested persons should submit written comments on the proposed information collection to Muriel B. Anderson, Chief, Records Management Branch, FEMA at 500 C Street, SW., Room 316, Washington, DC 20472, facsimile number (202) 646-3347, or email address InformationCollections@fema.gov.

FOR FURTHER INFORMATION CONTACT: Contact Arlene Ramsey, Grants Management Specialist, Grants Management Branch, 202-646-4531, for additional information. You may contact Ms. Anderson for copies of the proposed information collection (see ADDRESSES information above).

Dated: February 12, 2004.
Edward W. Kernan,
Division Director, Information Resources Management Division, Information Technology Services Directorate.

[FR Doc. 04-3808 Filed 2-20-04; 8:45 am]

BILLING CODE 9110-07-P